DEPARTMENT OF LABOR

Employment And Training Administration

[TA-W-55,408]

Kokoku Wire Industries, South Bend, IN; Notice of Negative Determination on Reconsideration

On December 7, 2004, the Department issued an Affirmative Determination Regarding Application for Reconsideration for the workers and former workers of the subject firm. The Department's Notice of determination was published in the Federal Register on December 20, 2004 (69 FR 76016).

The Department initially denied Trade Adjustment Assistance (TAA) to workers of Kokoku Wire Industries, South Bend, Indiana (“Kokoku Wire”) because the “contributed importantly” and shift of production group eligibility requirements of Section 222(3) of the Trade Act of 1974, as amended, were not met. The initial investigation revealed that neither the subject company nor its customers increased import purchases of steel wire for automotive control cables during the relevant period and that there was no shift of production. The Department also denied Alternate Trade Adjustment Assistance (ATAA) to workers since the workers were not certified eligible for TAA.

In the request for reconsideration, the petitioner alleged that the subject's major customers increased import purchases during the relevant time period.

During the reconsideration investigation, the Department carefully reviewed the record, requested additional information from the subject company, and conducted another, more extensive customer survey regarding purchases of steel wire for automotive control cables during 2002, 2003, January through August 2003 and January through August 2004.

A careful review of the record confirms that the subject company's inability to secure raw materials was a determining factor for the plant closure in July 2004.

Additional information provided by the company official revealed that the subject company had a group of smaller customers who decreased purchases during the investigatory period. A survey of those customers revealed no imports of steel wire for automotive control cables during the relevant period.

An investigation for ATAA certification eligibility was not conducted because the workers are not certified for TAA.

Conclusion

After reconsideration, I affirm the original notice of negative determination of eligibility to apply for worker adjustment assistance for workers and former workers of Kokoku Wire Industries, South Bend, Indiana.

Signed at Washington, DC, this 3rd day of February 2005.
Elliott S. Kushner,
Certifying Officer, Division of Trade Adjustment Assistance.

[FR Doc. E5-687 Filed 2-18-05; 8:45 am]

BILLING CODE 4510-30-P